NATIONAL AERONAUTICS AND SPACE ADMINISTRATION

[Notice 02-110]

U.S. Centennial of Flight Commission

AGENCY: National Aeronautics and Space Administration.

ACTION: Notice of meeting.

SUMMARY: In accordance with the Federal Advisory Committee Act, Public Law 92-463, as amended, the National Aeronautics and Space Administration announces a meeting of the U.S. Centennial of Flight Commission and the First Flight Centennial Federal Advisory Board.

DATES: Thursday, October 24, 2002, 9:00 a.m. to 12 noon.

ADDRESSES: Paul Laurence Dunbar Library, First Floor Group Study Room, Wright State University, 3640 Col. Glenn Hwy, Dayton, OH.

FOR FURTHER INFORMATION CONTACT: Ms. Beverly Farmarco, Code I-2, National Aeronautics and Space Administration, Washington, DC 20546, 202/358-1903.

SUPPLEMENTARY INFORMATION: The meeting will be open to the public up to the seating capacity of the room. The agenda for the meeting is as follows:

—Opening Comments

—Inventing Flight—Educational Curriculum

—Educational Tool Kit

—Status of EAA Centennial Activities

—Wolf Trap Foundation for the Performing Arts

—Rockefeller Center Exhibition

—Space Day Foundation

—Centennial Partners

—Kick-Off Update

—Outreach Activities

—Centennial Song by Tena Clark

—Closing Comments

It is imperative that the meeting be held on this date to accommodate the scheduling priorities of the key participants. Visitors will be requested to sign a visitor's register.

June W. Edwards,
Advisory Committee Management Officer, National Aeronautics and Space Administration.

[FR Doc. 02-24205 Filed 9-23-02; 8:45 am]

BILLING CODE 7510-01-P